ENVIRONMENTAL PROTECTION AGENCY

40 CFR Part 52

[EPA-R04-OAR-2020-0716; FRL-8859-02-R4]

Air Plan Approval; North Carolina; Monitoring: Recordkeeping: Reporting

AGENCY: Environmental Protection Agency (EPA).

ACTION: Final rule.

SUMMARY: The Environmental Protection Agency (EPA) is approving changes to the North Carolina State Implementation Plan (SIP) submitted through the North Carolina Division of Air Quality (NCDAQ) on October 9, 2020. The SIP revision seeks to modify the State's monitoring, recordkeeping, and reporting regulations by adding one definition, adding references to approved testing methods, updating the reference format, and making minor changes to general formatting and language use for clarity purposes. EPA is approving these changes pursuant to the Clean Air Act (CAA or Act).

DATES: This rule is effective September 24, 2021.

ADDRESSES: EPA has established a docket for this action under Docket Identification No. EPA-R04-OAR-2020-0716. All documents in the docket are listed on the www.regulations.gov website. Although listed in the index, some information is not publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Sarah LaRocca, Air Regulatory Management Section, Air Planning and Implementation Branch, Air and Radiation Division, Region 4, U.S. Environmental Protection Agency, 61 Forsyth Street SW, Atlanta, Georgia 30303-8960. The telephone number is (404) 562-8994. Ms. LaRocca can also be reached via electronic mail at larocca.sarah@epa.gov.

SUPPLEMENTARY INFORMATION:

I. Background

EPA is approving changes to the following SIP-approved regulations under 15A North Carolina Administrative Code Subchapter 02D,¹ Section .0600, Monitoring: Recordkeeping: Reporting: ² Rule .0601, Purpose and Scope; Rule .0602, Definitions; Rule .0604, Exceptions to Monitoring and Reporting Requirements; Rule .0605, General Recordkeeping and Reporting Requirements; and Rule .0606, Sources Covered by Appendix P of 40 CFR part 51,³ of the North Carolina SIP, submitted on October 9, 2020.

¹ In the table of North Carolina regulations federally approved into the SIP at 40 CFR 52.1770(c), 15A NCAC 02D is referred to as “Subchapter 2D Air Pollution Control Requirements.”

² Section .0600 is titled “Air Contaminants; Monitoring; Reporting” in the CFR table. This is being amended in this notice to read “Monitoring: Recordkeeping: Reporting”.

³ The State submitted the SIP revisions following the readoption of several air regulations, including .0601, .0602, .0604, .0605, and .0606, pursuant to North Carolina's 10-year regulatory readoption process at North Carolina General Statute 150B-21.3A.

II. EPA's Analysis of North Carolina's Submittal

The changes that are the subject of this rulemaking revise monitoring, recordkeeping, and reporting regulations under Subchapter 02D of the North Carolina SIP. Specifically, they revise the SIP by changing a heading, adding one definition, adding references to approved testing methods, updating the reference format, and making minor changes to general formatting and language use for clarity purposes. EPA finds that the changes do not interfere with any applicable requirement concerning attainment and reasonable further progress, or any other applicable CAA requirement.

In a notice of proposed rulemaking (NPRM) published on May 20, 2021 (86 FR 27349), EPA proposed to approve North Carolina's SIP submission provided on October 9, 2020. The May 20, 2021, NPRM provides additional detail regarding the background and rationale for EPA's action. Comments on the May 20, 2021, NPRM were due on or before June 21, 2021. EPA received no comments on the May 20, 2021 NPRM.

III. Incorporation by Reference

In this rule, EPA is finalizing regulatory text that includes incorporation by reference. In accordance with requirements of 1 CFR 51.5, EPA is finalizing the incorporation by reference of the following rules in 15A NCAC Subchapter 02D, Section .0600, Monitoring: Recordkeeping: Reporting, with a state-effective date of November 1, 2019: Rule .0601, Purpose and Scope; Rule .0602, Definitions; Rule .0604, Exceptions to Monitoring and Reporting Requirements; Rule .0605, General Recordkeeping and Reporting Requirements; and Rule .0606, Sources Covered by Appendix P of 40 CFR part 51. The changes revise a heading, add one definition, add references to approved testing methods, update the reference format, and make minor changes to general formatting and language to provide clarity to the monitoring, recordkeeping, and reporting requirements. EPA has made, and will continue to make, these materials generally available through www.regulations.gov and at the EPA Region 4 office (please contact the person identified in the For Further Information Contact section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.⁴

⁴ See 62 FR 27968 (May 22, 1997).

IV. Final Action

EPA is approving North Carolina's October 9, 2020, SIP revisions, which contain changes to the following regulations under 15A NCAC Subchapter 02D: Section .0600, Monitoring: Recordkeeping: Reporting: Rule .0601, Purpose and Scope; Rule .0602, Definitions; Rule .0604, Exceptions to Monitoring and Reporting Requirements; Rule .0605, General Recordkeeping and Reporting Requirements; and Rule .0606, Sources Covered by Appendix P of 40 CFR Part 51. The changes are consistent with the CAA.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 25, 2021. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: August 19, 2021.
John Blevins,
Acting Regional Administrator, Region 4.

Accordingly, 40 CFR part 52 is amended as follows:

PART 52—APPROVAL AND PROMULGATION OF IMPLEMENTATION PLANS

1. The authority citation for part 52 continues to read as follows:

Authority: 42 U.S.C. 7401 et seq.

Subpart II—North Carolina

2. In § 52.1770 amend paragraph (c)(1) by revising the heading for “Section .0600” and the entries for “Section .0601”, “Section .0602”; and “Section .0604”; “Section .0605”; and “Section .0606” to read as follows:

§ 52.1770 Identification of plan.

* * * * *

(c) * * *

* * * * *

(1) EPA Approved North Carolina Regulations
State citation | Title/subject | State effective date | EPA approval date | Explanation
* * * * * * *
Section .0600 Monitoring: Recordkeeping: Reporting
Section .0601 | Purpose and Scope | 11/1/2019 | 8/25/2021, [Insert citation of publication]
Section .0602 | Definitions | 11/1/2019 | 8/25/2021, [Insert citation of publication]
Section .0604 | Exceptions to Monitoring and Reporting Requirements | 11/1/2019 | 8/25/2021, [Insert citation of publication]
Section .0605 | General Recordkeeping and Reporting Requirements | 11/1/2019 | 8/25/2021, [Insert citation of publication]
Section .0606 | Sources Covered by Appendix P of 40 CFR Part 51 | 11/1/2019 | 8/25/2021, [Insert citation of publication]
* * * * * * *

* * * * *

[FR Doc. 2021-18248 Filed 8-24-21; 8:45 am]

BILLING CODE 6560-50-P